DEPARTMENT OF HEALTH AND HUMAN SERVICES

Centers for Disease Control and Prevention

Disease, Disability, and Injury Prevention and Control Special Emphasis Panel: Occupational Health and Safety Research, Program Announcement (PA) 04038

In accordance with section 10(a)(2) of the Federal Advisory Committee Act (Pub. L. 92-463), the Centers for Disease Control and Prevention (CDC) announces the following meeting:

Name: Disease, Disability, and Injury Prevention and Control Special Emphasis Panel (SEP): Occupational Health and Safety Research, Program Announcement (PA) 04038.

Times and Dates: 2:30 p.m.-2:45 p.m., November 1, 2004 (open).

2:45 p.m.-5:30 p.m., November 1, 2004 (closed).

Place: Office of Extramural Programs, Room 1419, Building 24, Executive Park Drive, Atlanta, GA 30333, Telephone: 888-414-5419 Pass Code 18205 (this meeting will be held via teleconference).

Status: Portions of the meeting will be closed to the public in accordance with provisions set forth in section 552b(c) (4) and (6), Title 5 U.S.C., and the determination of the Director, Management Analysis and Services Office, CDC, pursuant to Public Law 92-463.

Matters to be Discussed: The meeting will include the review, discussion, and evaluation of applications received in response to Program Announcement Number 04038.

Contact Person for More Information: Pamela J. Wilkerson, Designated Federal Official, Office of Extramural Programs, National Institute for Occupational Safety and Health, CDC, 1600 Clifton Road, NE., MS-E74, Atlanta, GA. 30333, Telephone 404-498-2530.

The Director, Management Analysis and Services Office, has been delegated the authority to sign Federal Register notices pertaining to announcements of meetings and other committee management activities, for both CDC and the Agency for Toxic Substances and Disease Registry.

Dated: October 6, 2004.
Alvin Hall,
Director, Management Analysis and Services Office, Centers for Disease Control and Prevention.

[FR Doc. 04-23025 Filed 10-13-04; 8:45 am]

BILLING CODE 4163-19-P